DEPARTMENT OF COMMERCE

Submission for OMB Review; Comment Request

The Department of Commerce has submitted to the Office of Management and Budget (OMB) for clearance the following proposal for collection of information under the emergency provisions of the Paperwork Reduction Act (44 U.S.C. Chapter 35).

Agency: National Institute of Standards and Technology (NIST).

Title: Advanced Technology Program (ATP).

Form Number(s): NIST-1262 and NIST-1263.

OMB Approval Number: 0693-0009.

Type of Review: Emergency submission.

Burden Hours: 27,125.

Number of Respondents: 1,425.

Average Hours Per Response: 25 hours for proposals and 5 hours for post award project surveys.

Needs and Uses: The ATP is a competitive cost sharing program designed to assist United States businesses pursue high-risk, enabling technologies with significant commercial/economic potential. The ATP provides multi-year funding through the use of cooperative agreements to single companies and to industry-led joint ventures. In order to participate, proposals must be submitted addressing the ATP selection criteria. The information is used to perform the requisite technical and business reviews of the proposals to determine if an award should be granted.

Affected Public: Business or other for-profit organizations, non-profit organizations, and individuals or households.

Frequency: Annually.

Respondent's Obligation: Required to obtain or retain a benefit.

OMB Desk Officer: Jacqueline Zeiher, (202) 395-4638.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent by November 20, 2003 to Jacqueline Zeiher, OMB Desk Officer, Jzeiher@omb.eop.gov, Fax Number (202) 395-5167.

Dated: October 15, 2003
Gwellnar Banks,
Management Analyst, Office of the Chief Information Officer.

[FR Doc. 03-26527 Filed 10-20-03; 8:45 am]

BILLING CODE 3510-13-P